DEPARTMENT OF THE INTERIOR

Bureau of Land Management

[OR-038-1220-AL; HAG 06-0179]

Meeting Notice for National Historic Oregon Trail Interpretive Center Advisory Board

AGENCY: Bureau of Land Management (BLM), Vale District, DOI.

ACTION: Notice of meetings.

SUMMARY: The National Historic Oregon Trail Interpretive Center Advisory Board will meet September 19, 2006, from 8 a.m. to 12 p.m. (PDT) at the National Historic Oregon Trail Interpretive Center, 22267 Highway 86, Baker City, OR 97914.

Meeting topics will include a Center update, education and outreach, and other topics as may come before the board. The meeting is open to the public. Public comment is scheduled for 10 to 10:15 a.m.

FOR FURTHER INFORMATION CONTACT: Additional information concerning the National Historic Oregon Trail Interpretive Center Advisory Board may be obtained from Debbie Lyons, Public Affairs Officer, Vale District Office, 100 Oregon Street, Vale, Oregon 97918, (541) 473-6218 or e-mail Debra_Lyons@or.blm.gov.

Dated: August 23, 2006.
David R. Henderson,
District Manager.

[FR Doc. E6-14290 Filed 8-28-06; 8:45 am]

BILLING CODE 4310-33-P